INTERNATIONAL TRADE COMMISSION

[Investigation No. 731-TA-1145 (Review)]

Certain Steel Threaded Rod From China

Determination

On the basis of the record ¹ developed in the subject five-year review, the United States International Trade Commission (Commission) determines, pursuant to section 751(c) of the Tariff Act of 1930 (19 U.S.C. 1675(c)), that revocation of the antidumping duty order on certain steel threaded rod from China would be likely to lead to continuation or recurrence of material injury to an industry in the United States within a reasonably foreseeable time.

¹ The record is defined in sec. 207.2(f) of the Commission's Rules of Practice and Procedure (19 CFR 207.2(f)).

Background

The Commission instituted this review on March 3, 2014 (79 FR 11827), and determined on June 6, 2014 that it would conduct an expedited review (79 FR 34783, June 18, 2014).

The Commission completed and filed its determination in this review on August 4, 2014. The views of the Commission are contained in USITC Publication 4483 (August 2014), entitled Certain Steel Threaded Rod from China: Investigation No. 731-TA-1145 (Review).

By order of the Commission.
Issued: August 4, 2014.
Jennifer D. Rohrbach,
Supervisory Attorney.

[FR Doc. 2014-18724 Filed 8-7-14; 8:45 am]

BILLING CODE 7020-02-P